DEPARTMENT OF THE INTERIOR

Bureau of Land Management

[WO-320-1320-PB-02 24 1A]

Extension of Approved Information Collection, OMB Number 1004-0073

AGENCY: Bureau of Land Management, Interior.

ACTION: Notice and request for comments.

SUMMARY: In accordance with the Paperwork Reduction Act of 1995, the Bureau of Land Management (BLM) announces its intention to request renewal of existing approval to collect certain information from any person, association, or corporation, or any subsidiary, affiliate, or persons controlled by or under common control with such person, association or corporation interested in leasing for or developing Federal coal. This information allows BLM to determine if the applicant to lease or develop Federal coal is qualified to hold a Federal coal lease.

DATES: BLM must receive comments on the proposed information collection by October 2, 2000, to assure its consideration of them.

ADDRESSES: Mail comments to: Regulatory Affairs Group (630), Bureau of Land Management, 1849 C Street NW, Room 401LS, Washington, DC 20240.

Send comments via Internet to: WOComment@blm.gov. Please include “ATTN: 1004-0073” and your name and return address in your Internet message.

You may hand-deliver comments to the Bureau of Land Management Administrative Record, Room 401, 1620 L Street, NW., Washington, DC 20036.

BLM will make comments available for public review at the L Street address during regular business hours (7:45 a.m. to 4:15 p.m.), Monday through Friday.

FOR FURTHER INFORMATION CONTACT: William Radden-Lesage, Solid Minerals Group, WO-320, 202-452-0360.

SUPPLEMENTARY INFORMATION: In accordance with 5 CFR 1320.12(a), BLM is required to provide 60-day notice in the Federal Register concerning a collection of information contained in BLM (Form 3400-12 and 3440), 43 CFR Group 3400, Coal Management, to solicit comments on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected, and (d) ways to minimize the burden of the collection of information on those who are to respond, including through the use of appropriate automated, electronic, mechanical, or other technological collection techniques or other forms of information technology. BLM will receive and analyze any comments sent in response to this notice and include them with its request for approval from the OMB under 44 U.S.C. 3501 et seq.

BLM plans to seek from the Office of Management and Budget an extension approval for the information collection requirements in 43 CFR Parts 3400 through 3487, which cover the leasing and development of Federal coal. These regulations implement the statutory authority governing leasing activities on Federal land which is found in the Mineral Leasing Act of 1920, including the 1976 coal amendments (30 U.S.C. 181 et seq.); the Mineral Leasing Act for Acquired Lands of 1947 (30 U.S.C. 351-359); the Federal Land Policy and Management Act of 1976 (43 U.S.C. 1761 et seq.); the Surface Mining Control and Reclamation Act of 1977 (30 U.S.C. 1201 et seq.); the Multiple Mineral Development Act of 1954, 30 U.S.C. 521-531; the National Environmental Policy Act (42 U.S.C. 4321 et seq.); and the Act of October 30, 1978 (92 STAT. 2073-2075).

BLM uses the information provided by the applicant(s) to determine if the applicant to lease or develop Federal coal is qualified to hold such a lease. If BLM did not collect this information, it would not be able to gather relevant data to manage the leasing and development of coal in the public interest.

Based on BLM's experience administering the activities described above, the public reporting burden for the information collected is estimated to average 20 hours and 15 minutes per response. The respondents are applicants to lease or develop Federal coal, and vary from individuals to small businesses and major corporations. The frequency of response is occasionally, usually upon application. The number of responses per year is estimated to total 1,185. The estimated total annual burden on all new respondents is about 23,986 hours. BLM is specifically requesting your comments on its estimate of the amount of time that it takes to prepare a response.

Type of application | 43 CFR cross reference | Number of responses | Hours/response | Total hours
Application for an exploration license | 3410.2-1 | 10 | 36 | 360
Issuance and termination of an exploration license | 3410.3-1 | 5 | 12 | 60
Operations under and modification of an exploration license | 3410.3-3 | 1 | 1 | 1
Collection and submission of data from an exploration license | 3410.4 | 5 | 18 | 90
Call for coal resource and other resource information | 3420.1-2 | 0 | 3 | 0
Surface owner consultation | 3420.1-4 | 7 | 1 | 7
Expressions of leasing interest | 3420.3-2 | 0 | 7 | 0
Response to notice for sale | 3422.2 | 8 | 56 | 448
Consultation with the Attorney General | 3422.3-4 | 7 | 4 | 28
Leasing on application | 3425 | 15 | 308 | 4,620
Surface owner consent | 3427.2(c) | 7 | 1 | 7
Preference right lease application | 3430.3-1, 3430.4-1 | 3 | 800 | 2,400
Lease modifications | 3432.1 | 5 | 12 | 60
License to mine | 3440 | 2 | 21 | 42
Relinquishments | 3452.1-1, 3452.1-2 | 30 | 18 | 540
Transfers, assignments, subleases | 3453.2-1 | 43 | 10 | 430
Bonds | 3410.3-4, 3453.2-4, 3474.1, 3474.2 | 196 | 8 | 1,568
Land description requirements | 3471.1-1 | 15 | 2 | 30
Future interest lease application | 3471.4 | 0 | 16 | 0
Special leasing qualifications | 3472.1-2 | 4 | 3 | 12
Qualification statements | 3472.2 | 4 | 3 | 12
Lease rental and royalty rate reductions | 3473.3-4 | 9 | 13 | 117
Lease suspensions | 3473.4, 3483.3 | 7 | 20 | 140
Lease form | 3475.1 | 12 | 1 | 12
Logical mining units | 3475.6, 3481.2, 3487 | 5 | 170 | 850
General obligations of the operator/lessee | 3481.1 | 1 | 1 | 1
Exploration plans | 3482.1(a) | 11 | 30 | 330
Resource recovery and protection plan | 3482.1(b) | 4 | 192 | 768
Modifications to exploration plans and resource recovery and protection plans | 3482.2 | 79 | 16 | 1,264
Mining operations maps | 3482.3 | 311 | 20 | 6,220
Request for payment of advance royalty in lieu of continued operation | 3483.4 | 12 | 22 | 264
Performance standards for exploration (Retention of samples) | 3484.1(a) | 22 | 1 | 22
Performance standards for surface and underground coal mines | 3484.1(b) | 6 | 1 | 6
Exploration reports | 3485.1(a), 3485.1(b), 3485.1(c) | 7 | 4 | 28
Production reports | 3485.1(d), 3485.3 | 323 | 10 | 3,230
Notices and orders | 3486.2 | 1 | 3 | 3
Enforcement | 3486.3 | 8 | 2 | 16
Total |  | 1,185 |  | 23,986

BLM will summarize all responses to this notice and include them in the request for Office of Management and Budget approval. All comments will also become a matter of public record.

Dated: July 31, 2000.
Shirlean Beshir,
BLM Information Clearance Officer.

[FR Doc. 00-19694 Filed 8-2-00; 8:45 am]

BILLING CODE 4310-84-M